Title 3—

The President

Proclamation 7876 of March 24, 2005

Greek Independence Day: A National Day of Celebration of Greek and American Democracy, 2005

By the President of the United States of America

A Proclamation

Well before modern Greece gained her independence, the ancient Athenians adopted democratic principles that guided their society. These principles inspired our Founding Fathers to proclaim the imperative of self-government as they worked to build our great Nation. America's love for liberty has deep roots in the spirit of Greece. On Greek Independence Day, we celebrate our special ties of friendship, history, and shared values with Greece.

Our country has welcomed generations of Greek immigrants, and we are grateful for their talents, wisdom, and creativity. We honor the Greek spirit that values family and education, public service and faith. Greek Americans have made a mark in every field—enhancing our culture, enriching our commerce, and defending our freedom. Their strong record of public service has also strengthened our democracy, and their contributions have made America a better place.

As we address the challenges of the 21st century, the United States and Greece remain committed partners in the vital work of advancing freedom and democracy. Our two Nations are founded on shared ideals of liberty, and we are working together to advance those ideals across the world today.

NOW, THEREFORE, I, GEORGE W. BUSH, President of the United States of America, by virtue of the authority vested in me by the Constitution and laws of the United States, do hereby proclaim March 25, 2005, as Greek Independence Day: A National Day of Celebration of Greek and American Democracy. I call upon all Americans to observe this day with appropriate ceremonies and activities.

IN WITNESS WHEREOF, I have hereunto set my hand this twenty-fourth day of March, in the year of our Lord two thousand five, and of the Independence of the United States of America the two hundred and twenty-ninth.

B

[FR Doc. 05-6328

Filed 3-28-05; 8:45 am]

Billing code 3195-01-P